DEPARTMENT OF JUSTICE

Drug Enforcement Administration

Manufacturer of Controlled Substances; Notice of Application

Pursuant to section 1301.33(a) of title 21 of the Code of Federal Regulations (CFR), this is notice that on June 10, 2002, Organix, Inc., 240 Salem Street, Woburn, MA 01810, made application by renewal to the Drug Enforcement Administration (DEA) for registration as a bulk manufacturer of the basic class of Cocaine (9041), a Schedule II controlled substance.

The firm plans to synthesize a controlled substance derivative from a non-controlled substance; the derivative will be sold to the firm's customer for research purposes.

Any other such applicant and any person who is presently registered with DEA to manufacture such a substance may file comments or objections to the issuance of the proposed registration.

Any such comments or objections may be addressed, in quintuplicate, to the Deputy Assistant Administrator, Office of Diversion Control, Drug Enforcement Administration, United States Department of Justice, Washington, DC 20537, Attention: DEA Federal Register Representative (CCD) and must be filed no later than July 28, 2003.

Dated: May 7, 2003.
Laura M. Nagel,
Deputy Assistant Administrator, Office of Diversion Control, Drug Enforcement Administration.

[FR Doc. 03-13310 Filed 5-28-03; 8:45 am]

BILLING CODE 4410-09-M